NUCLEAR REGULATORY COMMISSION

[Docket No. 50-362]

Southern California Edison Company; San Onofre Nuclear Generating Station, Unit 3, Environmental Assessment and Finding of No Significant Impact

The U.S. Nuclear Regulatory Commission (NRC) is considering issuance of an exemption from Title 10 of the Code of Federal Regulations (10 CFR) Part 74, Section 74.19(c), for Facility Operating License No. NPF-15, issued to Southern California Edison Company (SCE, the licensee), for operation of the San Onofre Nuclear Generating Station (SONGS), Unit 3, located in San Diego County, California. Therefore, as required by 10 CFR 51.21, the NRC is issuing this environmental assessment and finding of no significant impact.

Environmental Assessment

Identification of the Proposed Action:

The regulation 10 CFR 74.19(c) states, “Other than licensees subject to Sections 74.31, 74.33, 74.41, or 74.51, each licensee who is authorized to possess special nuclear material, at any one time and site location, in a quantity greater than 350 grams of contained uranium-235, uranium-233, or plutonium, or any combination thereof, shall conduct a physical inventory of all special nuclear material in its possession under license at intervals not to exceed 12 months.”

By application dated January 14, 2008, the licensee requested an exemption from certain recordkeeping requirements in Section 74.19(c) for SONGS Unit 3. The exemption would allow SCE to deviate from the physical inventory requirements for 12 irradiated fission chambers removed from SONGS 3 in 1995 and in storage at the plant.

The Need for the Proposed Action:

The proposed action would allow the licensee to not have to perform physical inventory of the 12 irradiated fission chambers that are stored in the plant.

The licensee pointed out that the as low as is reasonably achievable (ALARA) requirement in 10 CFR Part 20, “Standards for protection against radiation,” requires “* * * making every reasonable effort to maintain exposures to radiation as far below the dose limits in this part as is practical consistent with the purpose for which the licensed activity is undertaken, * * *.” This request for an exemption from the physical inventory requirements of 10 CFR 74.19(c) would relieve SCE of significant and unnecessary personnel exposures with no decrease in quality and safety.

Environmental Impacts of the Proposed Action:

NRC completed its safety evaluation of the proposed action and concludes that the exempting the licensee from performing a physical inventory of the 12 irradiated fission chambers in the plant is acceptable.

The details of the staff's safety evaluation will be provided in the exemption that will be issued as part of the letter to the licensee approving the exemption to the regulation.

The proposed action will not significantly increase the probability or consequences of accidents. No changes are being made in the types of effluents that may be released off site. There is no significant increase in the amount of any effluent released off site. There is no significant increase in occupational or public radiation exposure. Therefore, there are no significant radiological environmental impacts associated with the proposed action.

With regard to potential non-radiological impacts, the proposed action does not have a potential to affect any historic sites. It does not affect non-radiological plant effluents and has no other environmental impact. Therefore, there are no significant non-radiological environmental impacts associated with the proposed action.

Accordingly, the NRC concludes that there are no significant environmental impacts associated with the proposed action.

Environmental Impacts of the Alternatives to the Proposed Action:

As an alternative to the proposed action, the staff considered denial of the proposed action (i.e., the “no-action” alternative). Denial of the application would result in no change in current environmental impacts. The environmental impacts of the proposed action and the alternative action are similar.

Alternative Use of Resources:

The action does not involve the use of any different resources than those previously considered in the Final Environmental Statement for the SONGS Units 2 and 3 dated May 12, 1981.

Agencies and Persons Consulted:

In accordance with its stated policy, on October 22, 2008, the staff consulted with the California State official, Roger Lupo of the Radiologic Health Branch of the California Department of Public Health, regarding the environmental impact of the proposed action. The State official had no comments.

Finding of No Significant Impact

On the basis of the environmental assessment, the NRC concludes that the proposed action will not have a significant effect on the quality of the human environment. Accordingly, the NRC has determined not to prepare an environmental impact statement for the proposed action.

The licensee requested that the application be withheld from public disclosure, in accordance with 10 CFR 2.390, because it contained sensitive security-related information. The NRC staff agrees that the licensee's application dated January 14, 2008, contains security-related information and should be withheld in its entirety. Therefore, no further details with respect to the proposed action are publicly available.

Dated at Rockville, Maryland, this 18th day of December 2008.
For the Nuclear Regulatory Commission.
Nageswaran Kalyanam,
Project Manager, Plant Licensing Branch IV, Division of Operating Reactor Licensing, Office of Nuclear Reactor Regulation.

[FR Doc. E8-30948 Filed 12-29-08; 8:45 am]

BILLING CODE 7590-01-P